DEPARTMENT OF DEFENSE

Office of the Secretary

[Docket ID: DOD-2025-OS-0347]

Submission for OMB Review; Comment Request

AGENCY: The Under Secretary of Defense for Acquisition and Sustainment (USD(A&S)), Department of Defense (DoD).

ACTION: 30-Day information collection notice.

SUMMARY: The DoD has submitted to the Office of Management and Budget (OMB) for clearance the following proposal for collection of information under the provisions of the Paperwork Reduction Act.

DATES: Consideration will be given to all comments received by October 27, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: OLDCC Economic Adjustment Data System; OMB Control Number 0704-0625.

Type of Request: Revision.

Number of Respondents: 73.

Responses per Respondent: 6.

Annual Responses: 438.

Average Burden per Response: 170 minutes.

Annual Burden Hours: 1,241.

Needs and Uses: The Office of Local Defense Community Cooperation (OLDCC) in coordination with other Federal Agencies, delivers a program of technical and financial assistance to enable states and communities to plan and carry out civilian responses to workforce, business, and community needs arising from Defense actions; cooperate with military installations and leverage public and private capabilities to deliver public infrastructure and services to enhance the military mission and achieve facility and infrastructure savings; and increase military, civilian, and industrial readiness and resiliency, and support military families. The Economic Adjustment Data System supports this mission by providing a platform for authorized grant applicants to submit their application packages, and for grant awardees to submit quarterly or semi-annual performance reports. Respondents will be States, U.S. Territories, counties, municipalities, other political subdivisions of a state, special purpose units of a state or local government, other instrumentalities of a state or local government, and tribal nations supporting a military installation or the defense industrial base.

Affected Public: State, Local, or Tribal Government; Business or other for-profit; Not-for-profit Institutions.

Frequency: On occasion.

Respondent's Obligation: Voluntary.

DoD Clearance Officer: Mr. Reginald Lucas.

Dated: September 24, 2025.
Stephanie J. Bost,
Alternate OSD Federal Register Liaison Officer, Department of Defense.

[FR Doc. 2025-18724 Filed 9-25-25; 8:45 am]

BILLING CODE 6001-FR-P